DEPARTMENT OF COMMERCE

National Oceanic and Atmospheric Administration

50 CFR Part 600

[I.D. 030101F]

Magnuson-Stevens Act Provisions; General Provisions for Domestic Fisheries; Application for Exempted Fishing Permits (EFPs)

AGENCY: National Marine Fisheries Service (NMFS), National Oceanic and Atmospheric Administration (NOAA), Commerce.

ACTION: Notification of a proposal for EFPs to conduct experimental fishing; request for comments.

SUMMARY: NMFS announces that the Administrator, Northeast Region, NMFS (Regional Administrator), has made a preliminary determination to issue EFPs that would allow two vessels to conduct fishing operations otherwise restricted by the regulations governing the fisheries of the Northeastern United States. The Manomet Center for Conservation Sciences (Manomet) submitted a complete application for the issuance of EFPs to two commercial fishing vessels, which warrants further consideration. The experiment would be conducted in a portion of the Gulf of Maine/Georges Bank Regulated Mesh Area (GOM/GB RMA). The EFPs would be issued to two federally permitted groundfish vessels to conduct trawl net gear trials with two modified excluder devices and the associated small-mesh codend cover to target mixed groundfish species—primarily cod, yellowtail flounder, winter flounder (blackback), summer flounder (fluke), American plaice (dab) and grey sole (witch flounder), for the purpose of establishing selectivity parameters of trawl nets with and without the excluder device. EFPs would allow for exemptions to the gear restrictions, temporary possession of catch in excess of the landing limits for the purposes of data collection, and entry into the seasonal area closures in the GOM. The study is intended to determine the selective efficiency of two excluder device designs for the most effective exclusion of small cod and other sub-legal sized fish. Regulations under the Magnuson-Stevens Fishery Conservation and Management Act require publication of this notification to provide interested parties the opportunity to comment on applications for proposed EFPs.

DATES: Comments on this notification must be received at the appropriate address or fax number (see ADDRESSES) on or before April 3, 2001.

ADDRESSES: Written comments should be sent to Patricia Kurkul, Regional Administrator, NMFS, Northeast Regional Office, One Blackburn Drive, Gloucester, MA 01930. Mark the outside of the envelope “Comments on EFP Proposal.” Comments may also be sent via facsimile (fax) to (978) 281-9135.

FOR FURTHER INFORMATION CONTACT: Bonnie Van Pelt, Fishery Management Specialist, 978-281-9244.

SUPPLEMENTARY INFORMATION: Manomet submitted an industry cooperative proposal on February 5, 2001, for two EFPs to conduct gear selectivity studies to address bycatch and discard of incidental catch and sub-legal sized fish, cod in particular, in the mixed-groundfish fisheries of the Northeast. The study would be conducted with two federally permitted multispecies vessels within the following four areas, excluding portions that overlap year-round closure areas (Western GOM Closure Area and Closed Area I) and including some Canadian territorial waters as follows:

Table 1
Point | N. Latitude | W. Longitude
1 |  | from the Maine shoreline at 69°55′ (east from the Western GOM Closure Area)
2 | south to 42° 30′ | 69° 00′
3 | 44°00′ | 69° 08′ (Maine shoreline)

Table 2
Point | N. Latitude | W. Longitude
1 | from the Massachusetts shoreline at 42°50′ | 69°30′
2 | 42°05′ | 69°08′

Table 3
Point | N. Latitude | W. Longitude
1 | from 42°00′ | 68°30′
2 | 41°00′ | 67°20′
3 | 42°00′ | 68°30′

Table 4
Point | N. Latitude | W. Longitude
1 | 41°10′ | 70°30′ east to 69°00′
2 | 40°50′ | 70° 30′
3 | 41°10′ | 70° 30′

This collaborative study involves Manomet, the Massachusetts Division of Marine Fisheries, and the Maine Department of Marine Resources as co-principal investigators. In addition, project tasks will be coordinated with the Canadian Department of Fisheries and Oceans to ensure compatibility with existing methodology and data format. A bycatch reduction device called EX-it was developed by the Icelandic fishing industry, with scientific and Governmental collaboration. The EX-it device is now used by over 60 percent of the inshore fishing fleet in Icelandic waters and has been demonstrated to reduce effectively the bycatch of undersized fish in fisheries from Iceland to Namibia.

The main objective of the experiment is to field test two modifications of the EX-it devices, which consist of a net tube in the shape of an hourglass, and steel grids. The EX-it device is inserted in the top panel of a codend (industry-standard mesh) within a trapezoidal steel frame. The grid system is made of eight smaller grids that are joined together. The field trials would deploy two EX-it devices, one with a grid bar spacing interval of 60 mm (2.36 inch), and the other of 55-mm (2.17-inch) spacing, combined with a retainer bag made of 1-7/8 inch (4.78-cm) mesh, which is attached to the EX-it devise, as well as additional 1-7/8 inch (4.78-cm) mesh cover surrounding the codend mesh itself. The retainer bag would retain all the fish that were excluded by each design of the EX-it device, and the codend covers would sample the portion of the catch that would have escaped the codend to obtain a selectivity curve, which requires the length-frequency distribution of the population sampled, as well as that of the population retained.

The purpose of the study is to develop a size-selective trawl gear configuration through modifications to the grid bar spacing of the EX-it device to release sub-legal sized cod and flatfish species incidental to the catch, while retaining fish of marketable size. The catch data for each sample (tow) would be used to prepare gear-specific mesh selectivity curves. Video observations would be performed in conjunction with the gear trials for use in behavioral analyses to ascertain the presence/absence of species-specific behavioral patterns that may explain observed differences in the selective efficiency of the gear modifications.

The field trials would take place over a period of approximately 5 days, with a total sample size of 20 tows; 10 tows (1 hour tow length) for each of the two EX-it device bar spacings tested, at four tows per day. These commercial gear trials would operate in the four areas designated (Tables 1-4) outside the Western GOM Year Round Closure Area and Closed Area I beginning in March 2001, until the 20 tows are obtained. Access to the GOM seasonal closures areas is necessary to maximize sampling and data return, while minimizing the need for a lengthy study and exhaustive fishing efforts. The GOM seasonal closures that may correspond in time and location with the proposed study are as follows: Rolling Closure Area I (March 1 to March 31), Rolling Closure Area II (April 1 to April 30), Rolling Closure Area III (May 1 to May 31), Rolling Closure Area IV (June 1 to June 30), and the Cashes Ledge Closure Area (July 1 to October 31). The study will continue for up to 6 months to allow for weather contingencies and to capture seasonal variability in target species distribution and abundance.

The experimental sampling design (use of a codend cover and the retainer bag) is intended to minimize greatly the number of tows necessary to yield the necessary amount of catch information; a minimum of 10 tows (1 hour in length maximum) is required for satisfactory selectivity curve results. The target species are yellowtail flounder, winter flounder (blackback), summer flounder (fluke), American plaice (dab) and cod. The main incidental species are expected to be skates, smooth and spiny dogfish, sculpins, sea raven and sea robin. Any sub-legal sized fish would be processed by the researcher (e.g., measured) and returned immediately to the water. During the experimental trials, participating vessels would be instructed to conduct normal fishing operations. Therefore, the vessels may only retain fish for commercial sale in the amount allowed under their respective Federal fishery permits and days-at-sea allocations.

NMFS-certified observers will collect fisheries data from each tow conducted during the course of the experiment. All the data reports will be forwarded to NMFS, the New England Fishery Management Council, various fishermen’s and industry organizations, Sea Grant offices and other interested parties. It is hoped that this experiment could serve as an example for future cooperative ventures between the U.S., Canada, and Iceland.

EFPs would be issued to two participating federally permitted Northeast multispecies vessels to exempt them from the gear restrictions, temporary possession of catch in excess of the landing limits for the purposes of data collection, and the GOM seasonal area closures of the Northeast Multispecies Fishery Management Plan, found at 50 CFR part 648, subpart F.

Authority: 16 U.S.C. 1801 et seq.

Dated: March 13, 2001.
Bruce C. Morehead,
Acting Director, Office of Sustainable Fisheries, National Marine Fisheries Service.

[FR Doc. 01-6750 Filed 3-16-01; 8:45 am]

BILLING CODE 3510-22-S